ENVIRONMENTAL PROTECTION AGENCY

[EPA-HQ-OPP-2002-0262; FRL-8841-5]

Notice of Receipt of Requests to Voluntarily Cancel Certain Pesticide Registrations

AGENCY: Environmental Protection Agency (EPA).

ACTION: Notice.

SUMMARY: In accordance with section 6(f)(1) of the Federal Insecticide, Fungicide, and Rodenticide Act (FIFRA), as amended, EPA is issuing a notice of receipt of requests by registrants to voluntarily cancel certain pesticide registrations. EPA intends to grant these requests at the close of the comment period for this announcement unless the Agency receives substantive comments within the comment period that would merit its further review of the requests, or unless the registrants withdraw their requests. If these requests are granted, any sale, distribution, or use of products listed in this notice will be permitted after the registration has been canceled only if the sale, distribution, or use is consistent with the terms as described in the final order.

DATES: Comments must be received on or before September 17, 2010.

ADDRESSES: Submit your comments, identified by docket identification (ID) number EPA-HQ-OPP-2002-0262, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

Submit written withdrawal request by mail to: Pesticide Re-evaluation Division (7508P), Office of Pesticide Programs, Environmental Protection Agency, 1200 Pennsylvania Ave., NW., Washington, DC 20460-0001. Attention: Melanie Biscoe.

• Delivery: OPP Regulatory Public Docket (7502P), Environmental Protection Agency, Rm. S-4400, One Potomac Yard (South Bldg.), 2777 S. Crystal Dr., Arlington, VA. Deliveries are only accepted during the Docket Facility’s normal hours of operation (8:30 a.m. to 4 p.m., Monday through Friday, excluding legal holidays). Special arrangements should be made for deliveries of boxed information. The Docket Facility’s telephone number is (703) 305-5805.

Instructions: Direct your comments to docket ID number EPA-HQ-OPP-2002-0262. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility's telephone number is (703) 305-5805.

FOR FURTHER INFORMATION CONTACT: Melanie Biscoe, Pesticide Re-evaluation Division (7508P), Office of Pesticide Programs, Environmental Protection Agency, 1200 Pennsylvania Ave., NW., Washington, DC 20460-0001; telephone number: (703) 305-7106; e-mail address: biscoe.melanie@epa.gov.

SUPPLEMENTARY INFORMATION:

I. General Information

A. Does this Action Apply to Me?

This action is directed to the public in general, and may be of interest to a wide range of stakeholders including environmental; human health; agricultural advocates; the chemical industry; pesticide users; and members of the public interested in the sale, distribution, or use of pesticides. If you have any questions regarding the information in this notice, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. What Action is the Agency Taking?

This notice announces receipt by the Agency of requests from all endosulfan registrants to cancel all 30 pesticide products registered under FIFRA section 3 or 24(c). These registrations are listed in Table 1 of this unit.

Table 1.—Registrations with Pending Requests for Cancellation
Registration No. | Product Name | Chemical Name
11678-5 | Thionex Endosulfan Technical | Endosulfan
19713-99 | Drexel Endosulfan 2EC Insecticide | Endosulfan
19713-319 | Drexel Endosulfan Technical | Endosulfan
19713-399 | Drexel Endosulfan 3EC | Endosulfan
61483-65 | Endalfly Insecticide Cattle Ear Tag | Endosulfan
66222-62 | Thionex 50W Insecticide | Endosulfan
66222-63 | Thiodan 3EC Insecticide | Endosulfan
66222-64 | Thionex Technical Insecticide | Endosulfan
AZ030004 | Thiodan 3EC Insecticide | Endosulfan
AZ980004 | Drexel Endosulfan 3EC | Endosulfan
HI030001 | Thionex 50W Insecticide | Endosulfan
HI030002 | Thiodan 3EC Insecticide | Endosulfan
HI070006 | Thionex 3EC | Endosulfan
ID030002 | Thionex 3EC | Endosulfan
ID030004 | Thionex 3EC | Endosulfan
ID980003 | Drexel Endosulfan 3EC | Endosulfan
NC080001 | Thionex 3EC | Endosulfan
NV030001 | Thiodan 3EC Insecticide | Endosulfan
OR030007 | Thiodan 3EC Insecticide | Endosulfan
OR030010 | Thiodan 3EC Insecticide | Endosulfan
OR030012 | Thionex 50W Insecticide | Endosulfan
OR030013 | Thiodan 3EC Insecticide | Endosulfan
OR030024 | Thiodan 3EC Insecticide | Endosulfan
UT030003 | Thionex 3EC | Endosulfan
WA030013 | Thiodan 3EC Insecticide | Endosulfan
WA030017 | Thionex 50W Insecticide | Endosulfan
WA030018 | Thiodan 3EC Insecticide | Endosulfan
WA030024 | Thionex 3EC Insecticide | Endosulfan
WA030027 | Thiodan 3EC Insecticide | Endosulfan
WA980012 | Drexel Endosulfan 3EC | Endosulfan

\

The registrants listed in Table 2 of this unit have requested:

• Cancellation of the uses listed in List 1 of Unit V. effective immediately.

• Cancellation of the uses listed in List 2 of Unit V. effective as of March 31, 2012.

• Cancellation of the uses listed in List 3 of Unit V. effective as of March 31, 2013.

• Cancellation of the uses listed in List 4 of Unit V. effective as of September 1, 2014.

• Cancellation of the uses listed in List 5 of Unit V. effective as of March 31, 2015.

• Cancellation of the uses listed in List 6 of Unit V. effective as of March 31, 2016.

These cancellation requests are part of a Memorandum of Agreement between the Agency and the four endosulfan registrants dated July 22, 2010. Specific endosulfan uses will end according to the schedule described in Unit V. The Memorandum of Agreement also requires additional mitigation measures for uses listed in Lists 2, 3, 4, 5, or 6 of Unit V. The Memorandum of Agreement is available at http://www.regulations.gov under docket number EPA-HQ-OPP-2002-0262-0181. Unless the Agency determines that there are substantive comments that warrant further review of the requests or the registrants withdraw their requests, EPA intends to issue orders in the Federal Register canceling all of the affected registrations.

Table 2 of this unit includes the names and addresses of record for all registrants of the products in Table 1 of this unit, in sequence by EPA company number. This number corresponds to the first part of the EPA registration numbers of the products listed in this unit.

Table 2.—Registrants Requesting Voluntary Cancellation
EPA Company No. | Company Name and Address
11678 | Makhteshim Chemical Works, Ltd. 4515 Falls of Neuse Rd. Suite 300 Raleigh, NC 27609
19713 | Drexel Chemical Company 1700 Channel Ave. P.O. Box 13327 Memphis, TN 38113-0327
61483 | KMG-Bernuth, Inc. 9555 W. Sam Houston Pkwy., South Suite 600 Houston, TX 77099
66222 | Makhteshim-Agan of North America, Inc. 4515 Falls of Neuse Rd. Suite 300 Raleigh, NC 27609

III. What is the Agency's Authority for Taking this Action?

Section 6(f)(1) of FIFRA provides that a registrant of a pesticide product may at any time request that any of its pesticide registrations be canceled. FIFRA further provides that, before acting on the request, EPA must publish a notice of receipt of any such request in the Federal Register.

Section 6(f)(1)(B) of FIFRA requires that before acting on a request for voluntary cancellation, EPA must provide a 30-day public comment period on the request for voluntary cancellation or use termination. In addition, FIFRA section 6(f)(1)(C) requires that EPA provide a 180-day comment period on a request for voluntary cancellation or termination of any minor agricultural use before granting the request, unless:

1. The registrants request a waiver of the comment period, or

2. The EPA Administrator determines that continued use of the pesticide would pose an unreasonable adverse effect on the environment.

The registrants in Table 2 of Unit II. have requested that EPA waive the 180-day comment period. Accordingly, EPA will provide a 30-day comment period on the proposed requests.

IV. Procedures for Withdrawal of Request

Registrants who choose to withdraw a request for cancellation should submit the withdrawal in writing to the person listed under FOR FURTHER INFORMATION CONTACT. If the products have been subject to a previous cancellation action, the effective date of cancellation and all other provisions of any earlier cancellation action are controlling.

V. Provisions for Disposition of Existing Stocks

Existing stocks are those stocks of registered pesticide products that are currently in the United States and that were packaged, labeled, and released for shipment prior to the effective date of the cancellation action. In any order issued in response to these requests for use deletions and requests for voluntary cancellations, the Agency proposes to include the following provisions for the treatment of any existing stocks of the products identified or referenced in Table 1 of Unit II. These provisions are consistent with the requests for use deletions and requests for voluntary cancellations outlined in Unit II. If the request for voluntary cancellation and use termination is granted, the Agency intends to publish the cancellation order in the Federal Register.

1. For the uses in List 1 of this unit:

i. EPA intends to prohibit the registrants’ distribution, sale, and reformulation of products permitting the uses in List 1 after December 31, 2010, except sale or distribution of such products for the purposes of proper disposal, or export consistent with section 17 of FIFRA.

ii. EPA intends to prohibit the distribution or sale of products permitting the uses in List 1 by persons other than the registrants after May 31, 2011, except sale or distribution of such products for the purposes of proper disposal, or export consistent with section 17 of FIFRA.

iii. EPA intends to prohibit the uses in List 1 after July 31, 2012. The stop use date for the uses listed in List 1 of this unit will also be reflected on amended product labeling.

iv. Any use of existing stocks must be consistent with the directions and terms of the previously approved labeling on, or that accompanied, the product with respect to those uses.

List 1.—Phase-Out Group A

Almond

Apricot

Broccoli

Brussels sprouts

Carrots

Cauliflower

Celery (non-AZ)

Citrus (non-bearing)

Collard greens

Dry beans

Dry peas

Eggplant

Filbert

Kale

Kohlrabi

Mustard greens

Nectarine (CA only)

Macadamia

Plum & prune

Poplars grown for pulp and timber

Strawberry (annual)

Sweet potato

Tart cherry

Turnip

Walnut

Ornamental trees, shrubs, and herbaceous plants - includes boxelder, dogwood, lilac, douglas fir (grown for ornamentals nursery stock or Christmas trees; Pacific Northwest only), elms, leatherleaf fern, pines (austrian, jack, red, scotch, white), shade trees (except birch), shrubs, spruce (New England area only), taxus, orchids, hybrid poplars, Christmas trees

Other uses that may appear on section 3 registration labels or on a 24(c) registration and are not listed above or on Lists 2, 3, 4, 5, or 6 of this unit.

2. For the uses in List 2 of this unit:

i. EPA intends to prohibit the registrants' distribution, sale, and reformulation of products permitting the uses in List 2 after March 31, 2012, except sale or distribution of the products for the purposes of proper disposal, or export consistent with section 17 of FIFRA.

ii. EPA intends to prohibit the distribution or sale of products permitting the uses in List 2 by persons other than the registrants after May 31, 2012, except sale or distribution of the products for the purposes of proper disposal, or export consistent with section 17 of FIFRA.

iii. EPA intends to prohibit the uses in List 2 after July 31, 2012. The stop use date for the uses listed in List 2 of this unit will also be reflected on amended product labeling.

iv. Any use of existing stocks must be consistent with the directions and terms of the previously approved labeling on, or that accompanied, the product with respect to those uses.

List 2.—Phase-Out Group B

Cabbage

Celery (AZ only)

Cotton

Cucumbers

Lettuce

Stone fruits not listed in List 1 of this unit, including nectarine (non-CA), peaches, and sweet cherry

Summer melons (cantaloupe, honeydew, watermelon)

Summer squash

Tobacco

3. For the use in List 3 of this unit:

i. EPA intends to prohibit the registrants' distribution, sale, and reformulation of products permitting the use in List 3 after March 31, 2013, except sale or distribution of the products for the purposes of proper disposal, or export consistent with section 17 of FIFRA.

ii. EPA intends to prohibit the distribution or sale of products permitting the use in List 3 by persons other than the registrants after May 31, 2013, except sale or distribution of the products for the purposes of proper disposal, or export consistent with section 17 of FIFRA.

iii. EPA intends to prohibit the use in List 3 after July 31, 2013. The stop use date for the use listed in List 3 of this unit will also be reflected on amended product labeling.

iv. Any use of existing stocks must be consistent with the directions and terms of the previously approved labeling on, or that accompanied, the product with respect to those uses.

List 3.—Phase-Out Group C

Pear

4. For the uses in List 4 of this unit:

i. EPA intends to prohibit the registrants’ distribution, sale, and reformulation of products permitting the uses in List 4 in the state of Florida after September 30, 2014, except sale or distribution of the products for the purposes of proper disposal, or export consistent with section 17 of FIFRA.

ii. EPA intends to prohibit the distribution or sale in the state of Florida of products permitting the uses in List 4 by persons other than the registrants after October 31, 2014, except sale or distribution of the products for the purposes of proper disposal, or export consistent with section 17 of FIFRA.

iii. EPA intends to prohibit the uses in List 4 in the state of Florida after December 31, 2014. The stop use date for the uses listed in List 4 of this unit will also be reflected on amended product labeling.

iv. Any use of existing stocks must be consistent with the directions for use and terms of the previously approved labeling on, or that accompanied, the product with respect to those uses.

List 4.—Phase-Out Group D

All Florida uses of:

Apple

Blueberry

Peppers

Potatoes

Pumpkins

Sweet corn

Tomato

Winter squash

5. For the uses in List 5 of this unit:

i. EPA intends to prohibit the registrants’ distribution, sale, and reformulation of products permitting the uses in List 5 after March 31, 2015, except sale or distribution of the products for the purposes of proper disposal, or export consistent with section 17 of FIFRA.

ii. EPA intends to prohibit the distribution or sale of products permitting the uses in List 5 by persons other than the registrants after May 31, 2015, except sale or distribution of the products for the purposes of proper disposal, or export consistent with section 17 of FIFRA.

iii. EPA intends to prohibit the uses in List 5 after July 31, 2015. The stop use date for the uses listed in List 5 of this unit will also be reflected on amended product labeling.

iv. Any use of existing stocks must be consistent with the directions for use and terms of the previously approved labeling on, or that accompanied, the product with respect to those uses.

List 5.—Phase-Out Group E

Apple

Blueberry

Peppers

Potatoes

Pumpkins

Sweet corn

Tomato

Winter squash

6. For the uses in List 6 of this unit:

i. EPA intends to prohibit the registrants' distribution, sale, and reformulation of products permitting the uses in List 6 after March 31, 2016, except sale or distribution of the products for the purposes of proper disposal, or export consistent with section 17 of FIFRA.

ii. EPA intends to prohibit the distribution or sale of products permitting the uses in List 6 by persons other than the registrants after May 31, 2016, except sale or distribution of the products for the purposes of proper disposal, or export consistent with section 17 of FIFRA.

iii. EPA intends to prohibit the uses or products in List 6 after July 31, 2016. The stop use date for the uses listed in List 6 of this unit will also be reflected on amended product labeling.

iv. Any use of existing stocks must be consistent with the directions for use and terms of the previously approved labeling on, or that accompanied, the product with respect to those uses.

List 6.—Phase-Out Group F

Livestock ear tags

Pineapple

Strawberry (perennial/biennial)

Vegetable crops for seed (alfalfa, broccoli, brussels sprouts, cabbage, cauliflower, Chinese cabbage, collard greens, kale, kohlrabi, mustard greens, radish, rutabaga, turnip)

List of Subjects

Environmental protection, Pesticides and pests.

Dated: August 12, 2010.
Richard P. Keigwin, Jr.,
Director, Pesticide Re-evaluation Division, Office of Pesticide Programs.

[FR Doc. 2010-20447 Filed 8-17-10; 8:45 am]

BILLING CODE 6560-50-S